FEDERAL HOUSING FINANCE BOARD

Sunshine Act Meeting Notice; Announcing a Partially Open Meeting of the Board of Directors

Time and Date: The open meeting of the Board of Directors is scheduled to begin at 10 a.m. on Wednesday, June 14, 2006. The closed portion of the meeting will follow immediately the open portion of the meeting.

Place: Board Room, First Floor, Federal Housing Finance Board, 1625 Eye Street, NW., Washington, DC 20006.

Status: The first portion of the meeting will be open to the public. The final portion of the meeting will be closed to the public.

Matters to Be Considered at the Open Portion: Financing Corporation 2006 Supplemental Budget Request. Consideration of the Financing Corporation (FICO) request to increase its 2006 budget to cover unanticipated legal expenses.

Proposed Rule on Sharing Information Among the Banks and the Office of Finance and Clarifying Audit Requirements. Consideration of a proposed rule that would remove impediments to the sharing of information among the Federal Home Loan Banks (Banks) and the Office of Finance (OF) and would clarify the audit requirements for the Banks, OF, and FICO.

Data Reporting Reorganization. Consideration of a final rule that would move certain data reporting requirements from regulation to the Data Reporting Manual.

Matter to Be Considered at the Closed Portion: Periodic Update of Examination Program Development and Supervisory Findings.

FOR FURTHER INFORMATION CONTACT: Shelia Willis, Paralegal Specialist, Office of General Counsel, at 202-408-2876 or williss@fhfb.gov.

Dated: May 30, 2006.
By the Federal Housing Finance Board.
John P. Kennedy,
General Counsel.

[FR Doc. 06-5082 Filed 5-31-06; 10:10 am]

BILLING CODE 6725-01-P